FEDERAL DEPOSIT INSURANCE CORPORATION

Agency Information Collection Activities: Proposed Collection Renewal; Comment Request (OMB No. 3064-0165; -0183; and -0196)

AGENCY: Federal Deposit Insurance Corporation (FDIC).

ACTION: Notice and request for comment.

SUMMARY: The FDIC, as part of its continuing effort to reduce paperwork and respondent burden, invites the general public and other Federal agencies to take this opportunity to comment on the renewal of existing information collections, as required by the Paperwork Reduction Act of 1995 (PRA). Currently, the FDIC is soliciting comment on renewal of the information collections described below.

DATES: Comments must be submitted on or before July 24, 2018.

ADDRESSES: Interested parties are invited to submit written comments to the FDIC by any of the following methods:

• https://www.FDIC.gov/regulations/laws/federal.

• Email: comments@fdic.gov. Include the name and number of the collection in the subject line of the message.

• Mail: Manny Cabeza (202-898-3767), Counsel, MB-3007, Federal Deposit Insurance Corporation, 550 17th Street NW, Washington, DC 20429.

• Hand Delivery: Comments may be hand-delivered to the guard station at the rear of the 17th Street Building (located on F Street), on business days between 7:00 a.m. and 5:00 p.m.

All comments should refer to the appropriate OMB control number referenced in the Supplementary Information section below. A copy of the comments may also be submitted to the OMB desk officer for the FDIC: Office of Information and Regulatory Affairs, Office of Management and Budget, New Executive Office Building, Washington, DC 20503.

FOR FURTHER INFORMATION CONTACT: Manny Cabeza, Counsel, 202-898-3767, mcabeza@FDIC.gov, MB-3007, Federal Deposit Insurance Corporation, 550 17th Street NW, Washington, DC 20429.

SUPPLEMENTARY INFORMATION: Proposal to renew the following currently approved collections of information:

1. Title: Interagency Supervisory Guidance for the Supervisory Review Process of Capital Adequacy (Pillar 2) Related to the Implementation of the Basel II Advanced Capital Framework.

OMB Number: 3064-0165.

Form Number: None.

Affected Public: Insured state nonmember banks and certain subsidiaries of these entities.

Burden Estimate:

Summary of Annual Burden
| Type of burden | Estimated number of respondents | Estimated time per response (hours) | Frequency of response | Total annual estimated burden hours
Pillar 2 Guidance | Recordkeeping | 2 | 105 | Quarterly | 840
Total Estimated Annual Burden |  |  |  |  | 840

General Description of Collection: There has been no change in the method or substance of this information collection. The number of institutions subject to the record keeping requirements has decreased from eight (8) to two (2). In 2008 the Office of the Comptroller of the Currency, the Board of Governors of the Federal Reserve System and the FDIC issued a supervisory guidance document related to the supervisory review process of capital adequacy (Pillar 2) in connection with the implementation of the Basel II Advanced Capital Framework.¹ Sections 37, 41, 43, and 46 of the guidance include possible information collections. Section 37 provides that banks should state clearly the definition of capital used in any aspect of its internal capital adequacy assessment process (ICAAP) and document any changes in the internal definition of capital. Section 41 provides that banks should maintain thorough documentation of its ICAAP. Section 43 specifies that the board of directors should approve the bank's ICAAP, review it on a regular basis and approve any changes. Section 46 recommends that boards of directors periodically review the assessment of overall capital adequacy and analyze how measures of internal capital adequacy compare with other capital measures such as regulatory or accounting.

¹ 73 FR 44620 (July 31, 2008).

2. Title: Credit Risk Retention.

OMB Number: 3064-0183.

Form Number: None.

Affected Public: Insured state non-member banks, insured state branches of foreign banks, state savings associations and certain subsidiaries of these entities.

Burden Estimate:

Summary of Annual Burden
| Estimated number of offerings | Estimated annual frequency | Estimated average hours per response | Estimated annual burden hours
Disclosure Burden
Subpart B:
§ 373.4 Standard Risk Retention—Horizontal Interest | 1 | 1 | 5.5 | 5.5
§ 373.4 Standard Risk Retention—Vertical Interest | 40 | 1 | 2.0 | 80
§ 373.4 Standard Risk Retention—Combined Interest | 4 | 1 | 7.5 | 30
§ 373.5 Revolving Master Trusts | 15 | 1 | 7.0 | 105
§ 373.6 Eligible ABCP Conduits | 15 | 1 | 3.0 | 45
§ 373.7 Commercial MBS | 15 | 1 | 20.75 | 311.25
§ 373.8 FNMA and FHLMC | 15 | 1 | 1.5 | 22.5
§ 373.9 Open Market CLOs | 15 | 1 | 20.25 | 303.75
§ 373.10 Qualified Tender Option Bonds | 15 | 1 | 6.0 | 90
Subpart B Subtotal |  |  |  |
Subpart C:
§ 373.11 Allocation of Risk Retention to an Originator | 3 | 1 | 2.5 | 7.5
Subpart D:
§ 373.13 and .19(g) Exemption for Qualified Residential Mortgages | 13 | 1 | 1.25 | 16.25
§ 373.15 Exemption for Qualifying Commercial Loans, Commercial Real Estate and Automobile Loans | 16 | 1 | 20.0 | 320
§ 373.16 Underwriting Standards for Qualifying Commercial Loans | 6 | 1 | 1.25 | 7.5
§ 373.17 Underwriting Standards for Qualifying CRE Loans | 6 | 1 | 1.25 | 7.5
§ 373.18 Underwriting Standards for Qualifying Automobile Loans | 6 | 1 | 1.25 | 7.5
Total Estimated Disclosure Burden |  |  |  | 1,359.25
Recordkeeping Burden
Subpart B:
§ 373.4 Standard Risk Retention—Horizontal Interest | 1 | 1 | 0.5 | 0.5
§ 373.4 Standard Risk Retention—Vertical Interest | 40 | 1 | 0.5 | 20
§ 373.4 Standard Risk Retention—Combined Interest | 4 | 1 | 0.5 | 2
§ 373.5 Revolving Master Trusts | 15 | 1 | 0.5 | 7.5
§ 373.6 Eligible ABCP Conduits | 15 | 1 | 20.0 | 300
§ 373.7 Commercial MBS | 15 | 1 | 30.0 | 450
Subpart C:
§ 373.11 Allocation of Risk Retention to an Originator | 3 | 1 | 20.0 | 60
Subpart D:
§ 373.13 and .19(g) Exemption for Qualified Residential Mortgages | 13 | 1 | 40.0 | 520
§ 373.15 Exemption for Qualifying Commercial Loans, Commercial Real Estate and Automobile Loans | 16 | 1 | 0.5 | 8
§ 373.16 Underwriting Standards for Qualifying Commercial Loans | 6 | 1 | 40.0 | 240
§ 373.17 Underwriting Standards for Qualifying CRE Loans | 6 | 1 | 40.0 | 240
§ 373.18 Underwriting Standards for Qualifying Automobile Loans | 6 | 1 | 400 | 240
Total Estimated Recordkeeping Burden |  |  |  | 2,088
Total Estimated Annual Burden |  |  |  | 3,447.25

There has been no change in the method or substance of this information collection. The above burden estimate is derived from FDIC's estimate that there are currently approximately 1,400 annual offerings subject to the Credit Risk Retention rule (12 CFR part 373). The methodology used to estimate burden is fully detailed in the FDIC's supporting statement for this information collection (3064-0183) available at https://www.reginfo.gov/public/do/PRAViewDocument?ref_nbr=201501-3064-002.

General Description of Collection: This information collection request relates to the disclosure and recordkeeping requirements of 12 CFR part 373 (the Credit Risk Retention Rule) which implements section 15G of the Securities Exchange Act of 1934,² added by section 941 of the Dodd-Frank Wall Street Reform and Consumer Protection Act ³ (Section 941). The Credit Risk Retention Rule was jointly issued by the Federal Deposit Insurance Corporation (“FDIC”), the Office of the Comptroller of the Currency (“OCC”), the Federal Reserve Board (“Board”), the Securities and Exchange Commission (“Commission”) and, with respect to the portions of the Rule addressing the securitization of residential mortgages, the Federal Housing Finance Agency (“FHFA”) and the Department of Housing and Urban Development (“HUD”).

² 15 U.S.C. 78o-11.

³ Public Law 111-2-3, 124 Stat. 1376 (2010).

Section 941 requires the Board, the FDIC, the OCC (collectively, the “Federal banking agencies”), the Commission and, in the case of the securitization of any “residential mortgage asset,” together with HUD and FHFA, to jointly prescribe regulations that (i) require a securitizer to retain not less than five percent of the credit risk of any asset that the securitizer, through the issuance of an asset-backed security (“ABS”), transfers, sells or conveys to a third party, and (ii) prohibit a securitizer from directly or indirectly hedging or otherwise transferring the credit risk that the securitizer is required to retain under section 941 and the agencies' implementing rules.

The Credit Risk Retention Rule provides a menu of credit risk retention options from which securitizers can choose and sets out the standards, including disclosure and recordkeeping requirements, for each option; identifies the eligibility criteria, including certification and disclosure requirements, that must be met for asset-backed securities (ABS) offerings to qualify for certain exemptions; specifies the underwriting standards for commercial real estate (CRE) loans, commercial loans and automobile loans, as well as disclosure, certification and recordkeeping requirements, that must be met for ABS issuances collateralized by such loans to qualify for reduced credit risk retention; and sets forth the circumstances under which retention obligations may be allocated by sponsors to originators, including disclosure and monitoring requirements. The recordkeeping requirements relate primarily to (i) the adoption and maintenance of various policies and procedures to ensure and monitor compliance with regulatory requirements and (ii) certifications, including as to the effectiveness of internal supervisory controls. The required disclosures for each risk retention option are intended to provide investors with material information concerning the sponsor's retained interest in a securitization transaction (e.g., the amount, form and nature of the retained interest, material assumptions and methodology, representations and warranties). The agencies believe that the disclosure and recordkeeping requirements will enhance market discipline, help ensure the quality of the assets underlying a securitization, and assist investors in evaluating transactions.

3. Title: Disclosure Requirements Associated with the Supplementary Leverage Ratio.

OMB Number: 3064-0196.

Form Number: None.

Affected Public: Insured state nonmember banks and state savings associations that are subject to the FDIC's advanced approaches risk-based capital rules.

Burden Estimate:

Summary of Annual Burden
| Type of burden | Estimated number of respondents | Estimated time per response (hours) | Frequency of response | Total annual estimated burden hours
12 CFR 324.172 and 173 | Disclosure | 2 | 5 | Quarterly | 40
Total Estimated Annual Burden |  |  |  |  | 40

There has been no change in the method or substance of this information collection. The number of institutions subject to the disclosure requirements has decreased from eight (8) to two (2).

General Description of Collection: The supplementary leverage ratio regulations strengthen the definition of total leverage exposure and improve the measure of a banking organization's on- and off-balance sheet exposures. The rules are generally consistent with the Basel Committee on Banking Supervision's 2014 revisions and promote consistency in the calculation of this ratio across jurisdictions. All banking organizations that are subject to the advanced approaches risk-based capital rules ⁴ are required to disclose their supplementary leverage ratios.⁵ Advanced approaches banking organizations must report their supplementary leverage ratios on the applicable regulatory reports. The calculation and disclosure requirements for the supplementary leverage ratio in the federal banking agencies' regulatory capital rules are generally consistent with international standards published by the Basel Committee on Banking Supervision. These disclosures enhance the transparency and consistency of reporting requirements for the supplementary leverage ratio by all internationally active organizations.

⁴ 12 CFR 324.100(b)(1).

⁵ 12 CFR 324.10(c), 324.172(d), and 324.173.

Request for Comment

Comments are invited on: (a) Whether the collections of information are necessary for the proper performance of the FDIC's functions, including whether the information has practical utility; (b) the accuracy of the estimates of the burdens of the information collections, including the validity of the methodology and assumptions used; (c) ways to enhance the quality, utility, and clarity of the information to be collected; and (d) ways to minimize the burden of the collections of information on respondents, including through the use of automated collection techniques or other forms of information technology. All comments will become a matter of public record.

Dated at Washington, DC, on May 22, 2018.
Federal Deposit Insurance Corporation.
Robert E. Feldman,
Executive Secretary.

[FR Doc. 2018-11292 Filed 5-24-18; 8:45 am]

BILLING CODE 6714-01-P